DEPARTMENT OF TRANSPORTATION

Federal Railroad Administration

[Docket No. FRA-2020-0027-N-19]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before October 23, 2020.

ADDRESSES: Submit comments and recommendations for the proposed ICR to Ms. Hodan Wells, Information Collection Clearance Officer at email: hodan.wells@dot.gov or telephone: (202) 493-0440. Please refer to the assigned OMB control number in any correspondence submitted. FRA will summarize comments received in response to this notice in a subsequent notice and include them in its information collection submission to OMB for approval.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Track Safety Standards; Concrete Crossties.

OMB Control Number: 2130-0592.

Abstract: In 2011, FRA mandated specific requirements for effective concrete crossties, for rail fastening systems connected to concrete crossties, and for automated inspections of track constructed with concrete crossties. FRA uses the information collected under 49 CFR 213.234 to ensure automated track inspections of track constructed with concrete crossties are carried out as specified in the rule to supplement visual inspections by Class I and Class II railroads, intercity passenger railroads, and commuter railroads.

Type of Request: Extension with change (revised estimates) of a currently approved collection.

Affected Public: Businesses.

Form(s): N/A.

Respondent Universe: 30 railroads.

Frequency of Submission: On occasion.

Reporting Burden:

¹ Note: The current inventory estimates a total burden of 4,875 hours while the requesting inventory estimates a total burden of 279 hours. FRA determined some of the estimates were double counted and/or outdated, while other estimates were not PRA requirements, thus leading to the increased figures in the current inventory, which were decreased accordingly in this notice. Also, totals may not add due to rounding.

² The dollar equivalent cost is derived from the Surface Transportation Board's Full Year Wage A&B data series using the appropriate employee group hourly wage rate that includes a 75-percent overhead charge.

CFR Section ¹ | Respondent universe | Total annual responses | Average time per responses | Total annual burden hours | Total cost equivalent ²
213.234(e)—Automated inspection of track constructed with concrete crossties—Exception reports listing all exception to § 213.109(d)(4) | 30 railroads | 125 reports | 15 minutes | 31 hours | $1,813
—(g) Procedure for integrity of data—Track owners to institute procedures for maintaining the integrity of the data collected by the measurement system | 30 railroads | 30 revised procedures | 2 hours | 60 hours | 7,200
—(h)(3) Training—Track owners to provide annual training in handling rail seat deterioration exceptions to all persons designated as fully qualified under § 213.7 and whose territories are subject to the requirements of § 213.234—Recordkeeping | 30 railroads | 2,250 records of trained employees | 5 minutes | 188 hours | 10,875
Total | 30 railroads | 2,405 Responses | N/A | 279 Hours | 19,888

Total Estimated Annual Responses: 2,405.

Total Estimated Annual Burden: 279 hours.

Total Estimated Annual Burden Hour Dollar Cost Equivalent: $19,888.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Brett A. Jortland,
Deputy Chief Counsel.

[FR Doc. 2020-18482 Filed 8-21-20; 8:45 am]

BILLING CODE 4910-06-P